DEPARTMENT OF HEALTH AND HUMAN SERVICES

National Institutes of Health

National Institute of Biomedical Imaging and Bioengineering Notice of Meeting

Notice is hereby given of a change in the meeting of the National Advisory Council for Biomedical Imaging and Bioengineering, May 23, 2018, 08:30 a.m. to May 23, 2018, 03:00 p.m., The William F. Bolger Center, Bolger Center Hotel Lobby, 9600 Newbridge Drive, Overland Room, Potomac, MD 20854 which was published in the Federal Register on April 10, 2018, 83 FR 15392.

The meeting notice is amended to change the location of the meeting from the Overland Room to the Stained Glass Hall in the Osgood Building at the Bolger Center. The meeting is partially closed to the public.

Dated: April 19, 2018.
David D. Clary,
Program Analyst, Office of Federal Advisory Committee Policy.

[FR Doc. 2018-08566 Filed 4-24-18; 8:45 am]

BILLING CODE 4140-01-P